DEPARTMENT OF THE INTERIOR

Bureau of Ocean Energy Management, Regulation and Enforcement

Outer Continental Shelf Official Protraction Diagram, Lease Maps, and Supplemental Official Outer Continental Shelf Block Diagrams

AGENCY: Bureau of Ocean Energy Management, Regulation and Enforcement (BOEMRE), Interior.

ACTION: Availability of revised North American Datum of 1927 (NAD 27) Outer Continental Shelf Official Protraction Diagram, Lease Maps, and Supplemental Official Outer Continental Shelf Block Diagrams.

SUMMARY: Notice is hereby given that effective with this publication, the following NAD 27-based Outer Continental Shelf (OCS) Official Protraction Diagram (OPD), Lease Maps, and Supplemental Official OCS Block Diagrams (SOBDs) located in the Gulf of Mexico with revision date as indicated, are now available. BOEMRE in accordance with its authority and responsibility under Title 43, Code of Federal Regulations, is updating the basic records used for the description of renewable energy, mineral, and oil and gas lease sales in the geographic areas they represent. An audit of BOEMRE financial statements from 2007 identified an apparent state revenue distribution error under Section 8(g) of the OCS Lands Act. In response, BOEMRE initiated a review of all 8(g) leases issued to date and discovered more errors. The two sources of the past errors are: (1) Movement of the Submerged Lands Act boundary required acreage recalculations of certain lease blocks, but the recalculations were not performed; and (2) newly prescribed mapping methods for determining equal revenue distribution amongst adjacent coastal states were not implemented. The OPD, Lease Maps, and SOBDs that required boundary and acreage adjustments were corrected in 2008. As a final correction, these documents are now revised to identify the specific action taken to resolve revenue disbursement errors.

Specific Revisions: All of the maps listed below have been revised to reflect the new Agency name (BOEMRE). Those specific SOBDs for lease blocks that experienced revenue adjustments include one or more descriptive notes as follows.

The “Note” for SOBDs that are offshore of the States of Texas, Mississippi, and Alabama specifies: “For the purposes of revenue disbursement, revisions are made effective retroactively to April 14, 1986, the date of the 8(g) lease escrow settlement.”

The “Note” for SOBDs that are offshore of the State of Louisiana specifies: “For the purposes of revenue disbursement, revisions are made effective retroactively to October 1, 1986, the date of the 8(g) lease escrow settlement.”

The “Note” for SOBDs in the vicinity of the Texas-Louisiana “wraparound” specifies: “For the purposes of revenue disbursement, revisions are made effective retroactively to May 30, 1997, the date that the `wraparound' was erroneously removed.”

The date of 8(g) lease escrow settlement is noted because all state claims to 8(g) funds were settled before that date.

Outer Continental Shelf Official Protraction Diagram in the Gulf of Mexico

Description/Date

NH16-04 (Mobile)—7/01/2011.

Lease Maps in the Gulf of Mexico

Description/Date

LA1 (West Cameron Area)—7/01/2011.

LA12 (Sabine Pass Area)—7/01/2011.

Supplemental Official Outer Continental Shelf Block Diagrams in the Gulf of Mexico Located Within Official Protraction Diagram NH16-04 (Mobile)

Date/Block Numbers

7/01/2011: 765, 809, 810, 818, 819, 820, 853, 854, 861, 862, 863, 864, 897, 898, 906 and 907.

Supplemental Official Outer Continental Shelf Block Diagram in the Gulf of Mexico Located Within Lease Map LA1 (West Cameron Area)

Date/Block Number

7/01/2011: 53.

Supplemental Official Outer Continental Shelf Block Diagrams in the Gulf of Mexico Located Within Lease Map LA12 (Sabine Pass Area)

Date/Block Numbers

7/01/2011: 3, 5, 6, 7, 8, 9, 10 and 11.

FOR FURTHER INFORMATION CONTACT: Steven Textoris, Acting Chief, Leasing Division at (703) 787-1223 or via e-mail at Steven.Textoris@boemre.gov. Copies of the revised OPD, Lease Maps, and SOBDs are available for download in .pdf format from http://www.boemre.gov/homepg/pubinfo/MapsandSpatialData.html.

Dated: July 5, 2011.
Robert P. LaBelle,
Acting Associate Director for Offshore Energy and Minerals Management.

[FR Doc. 2011-22606 Filed 9-1-11; 8:45 am]

BILLING CODE 4310-MR-P